DEPARTMENT OF JUSTICE

Notice of Lodging of Consent Decree Pursuant to the Comprehensive Environmental Response, Compensation and Liability Act

In accordance with Departmental policy, 28 CFR § 50.7, 38 FR 19029, and consistent with 42 U.S.C. 9622, notice is hereby given that on December 10, 2001, a proposed consent decree in United States and California Department of Toxic Substances Control v. Del Norte County, Civil Action No. 01-4847 JCS, was lodged with the United States District Court for the Northern District of California. The proposed consent decree resolves claims under Section 106 and 107 of the Comprehensive Environmental Response, Compensation, and Liability Act (“CERCLA”), 42 U.S.C. 9606 and 9607, regarding the release and/or threat of release of hazardous substances at and from the Del Norte County Pesticide Storage Area Superfund Site near Crescent City, California. The settler is the owner/operator of the site which was centralized storage area for pesticide and herbicide containers. The accumulated containers, exposed to the elements, released hazardous substances.

Pursuant to the proposed settlement, the County shall continue to perform the remaining response action for the Site consisting of groundwater monitoring and implementation of land use restrictions. The County also shall reimburse the United States and the State in the amount of $50,000 apiece for certain past response costs. The settlement amount is based on the County's representation as to its financial condition.

The Department of Justice will receive for a period of thirty (30) days from the date of this publication comments relating to the proposed consent decree. Comments should be sent simultaneously to the following: (1) By facsimile (202) 514-2583 and U.S. mail addressed to the Assistant Attorney General of the Environment and Natural Resources Division, Department of Justice, P.O. Box 7611, Benjamin Franklin Station, Washington, DC 20044; (2) Charles O'Connor, Assistant U.S. Attorney, 450 Golden Gate Avenue, San Francisco, CA 94102; and (3) Rose Fua, Deputy Attorney General, 1515 Clay Street, Oakland, CA 94612. Comments should refer to United States and California Dept. of Toxic Substances Control v. Del Norte County, Civil Action No. 01-4847 JCS, D.J. Ref. 90-11-3-836.

The proposed consent decree may be examined at either of the following locations: (1) The Office of the United States Attorney, Northern District of California; or (2) Region 9, Office of the Environmental Protection Agency, 75 Hawthorne Street, San Francisco, California. A copy of the consent decree can be obtained (without attachments) by facsimile request ((202) 514-0997) sent to the Department of Justice Consent Decree Library, P.O. Box 7611, Washington, DC 20044. To receive a copy of the consent decree (without attachments), a party will be required to provide a check in the amount of $15.00 (25 cents per page reproduction cost) payable to the Consent Decree Library.

Ellen Mahan,
Assistant Section Chief, Environmental Enforcement Section, Environment and Natural Resources Division.

[FR Doc. 01-31783 Filed 12-26-01; 8:45 am]

BILLING CODE 4410-15-M